DEPARTMENT OF AGRICULTURE

Rural Housing Service

Notice of Intent To Hold Public Forums To Solicit Feedback From the Public Regarding the Section 523 Mutual Self-Help Housing Program; Correction

AGENCY: Rural Housing Service, USDA.

ACTION: Notice; correction.

SUMMARY: The Rural Housing Service, USDA published a document in the Federal Register of February 2, 2010, concerning upcoming public forums and request for comments regarding the Section 523 Mutual Self-Help Housing Program. There has been a change in one of the forum dates.

FOR FURTHER INFORMATION CONTACT: Debra S. Arnold, debra.arnold@wdc.usda.gov or (202) 720-1366.

Correction

In the Federal Register of February 2, 2010, in FR Doc. 2010-2067, on page 5281, in the third column, correct the date for Mississippi to read March 29, 2010.

Dated: March 10, 2010.
Tammye Treviño,
Administrator, Rural Housing Service.

[FR Doc. 2010-5895 Filed 3-17-10; 8:45 am]

BILLING CODE 3410-XV-P